DEPARTMENT OF ENERGY

Federal Energy Regulatory Commission

Combined Notice of Filings

Take notice that the Commission has received the following Natural Gas Pipeline Rate and Refund Report filings:

Filings Instituting Proceedings

Docket Numbers: RP21-1044-000.

Applicants: International Paper Company.

Description: Joint Petition for Temporary Waiver of Capacity Release Regulations, et al. of International Paper Company.

Filed Date: 8/23/21.

Accession Number: 20210823-5236.

Comment Date: 5 p.m. ET 9/2/21.

Docket Numbers: RP21-1045-000.

Applicants: Colorado Interstate Gas Company, L.L.C.

Description: Compliance filing: Penalties Assessed Compliance Filing 2021 to be effective N/A.

Filed Date: 8/24/21.

Accession Number: 20210824-5030.

Comment Date: 5 p.m. ET 9/7/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 24, 2021.
Kimberly D. Bose,
Secretary.

[FR Doc. 2021-18615 Filed 8-27-21; 8:45 am]

BILLING CODE 6717-01-P